DEPARTMENT OF THE TREASURY

Internal Revenue Service

26 CFR Part 1

[TD 9442]

RIN 1545-BA11

Consolidated Returns; Intercompany Obligations; Correction

AGENCY: Internal Revenue Service (IRS), Treasury.

ACTION: Correction to final regulations.

SUMMARY: This document contains corrections to final regulations (TD 9442) that were published in the Federal Register on Monday, December 29, 2008 (73 FR 79324) under section 1502 of the Internal Revenue Code providing guidance regarding the treatment of transactions involving obligations between members of a consolidated group.

DATES: This correction is effective February 11, 2009, and is applicable on December 29, 2008.

FOR FURTHER INFORMATION CONTACT: Frances Kelly, (202) 622-7770 (not a toll-free number).

SUPPLEMENTARY INFORMATION:

Background

The final regulations that are the subject of this document are under section 1502 of the Internal Revenue Code.

Need for Correction

As published, final regulations (TD 9442) contains errors that may prove to be misleading and are in need of clarification.

Correction of Publication

Accordingly, the publication of the final regulations (TD 9442), which was the subject of FR Doc. E8-30718, is corrected as follows:

1. On page 79325, column 2, in the preamble, under the paragraph heading “A. Anti-Abuse Rules”, second paragraph of the column, first to fifth lines from the bottom of the paragraph, the language “from the deemed satisfaction and reissuance model, these final regulations also adopt more specific rules regarding such transfers (described in part C.3.a. of this Preamble).” is corrected to read “from the deemed satisfaction-reissuance model, these final regulations also adopt more specific rules regarding such transfers (described in part C.3.a. of this preamble).”.

2. On page 79325, column 3, in the preamble, under the paragraph heading “C. Exceptions and Related Provisions”, third paragraph of the column, first line from the bottom of the paragraph, the language “satisfaction-reissuance.” is corrected to read “satisfaction and reissuance.”.

3. On page 79327, column 1, in the preamble, under the paragraph heading “5. Exceptions to the Application of Section 108(e)(4)”, first paragraph of the column, fifth line from the bottom of the paragraph, the language “short term debt exceptions for both” is corrected to read “short-term debt exceptions for both”.

Guy Traynor,
Acting Chief, Publications and Regulations Branch, Legal Processing Division, Associate Chief Counsel, (Procedure and Administration).

[FR Doc. E9-2831 Filed 2-10-09; 8:45 am]

BILLING CODE 4830-01-P